DEPARTMENT OF ENERGY

Federal Energy Regulatory Commission

18 CFR Part 35

[Docket No. RM04-7-000]

Market-Based Rates for Wholesale Sales of Electric Energy, Capacity and Ancillary Services by Public Utilities

August 14, 2006.

AGENCY: Federal Energy Regulatory Commission.

ACTION: Notice of Proposed Rulemaking: Extension of reply comment deadline.

SUMMARY: On May 19, 2006, the Federal Energy Regulatory Commission issued a Notice of Proposed Rulemaking (NOPR) proposing to amend its regulations to revise Subpart H to Part 35 of the Code of Federal Regulations governing market-based rates for public utilities pursuant to the Federal Power Act. 71 FR 33101 (2006). The date for filing reply comments on the proposed rule is extended at the request of the Edison Electric Institute.

DATES: Reply comments should be filed on or before September 20, 2006.

ADDRESSES: You may submit reply comments, identified by Docket No. RM04-7-000, by one of the following methods:

• Agency Web Site: http://www.ferc.gov. Follow the instructions for submitting comments via the eFiling link found in the Comment Procedures Section of the preamble of the NOPR.

• Mail: Commenters unable to file comments electronically must mail or hand deliver an original and 14 copies of their comments to: Federal Energy Regulatory Commission, Secretary of the Commission, 888 First Street, NE., Washington, DC, 20426. Please refer to the Comment Procedures Section of the preamble of the NOPR for additional information on how to file paper comments.

FOR FURTHER INFORMATION CONTACT: Elizabeth Arnold (Legal Information), Office of the General Counsel, Federal Energy Regulatory Commission, 888 First Street, NE., Washington, DC 20426, (202) 502-8818.

Market-Based Rates for Public Utilities; Notice of Extension of Time

On August 10, 2006, Edison Electric Institute (EEI) filed a motion for an extension of time to file reply comments in response to the Commission's Notice of Proposed Rulemaking issued May 19, 2006, in the above-docketed proceeding. Market-Based Rates for Public Utilities, 119 FERC ¶ 61,210 (2006). EEI states that because of the large number of substantive issues that are addressed in the NOPR and the voluminious nature of the initial comments that were filed in this docket, additional time is needed to prepare and file responsive comments.

Upon consideration, notice is hereby given that an extension of time for filing reply comments is granted to and including September 20, 2006, as requested by EEI.

Magalie R. Salas,
Secretary.

[FR Doc. E6-13703 Filed 8-18-06; 8:45 am]

BILLING CODE 6717-01-P